DEPARTMENT OF ENERGY

Office of Energy Efficiency and Renewable Energy

Federal Energy Management Advisory Committee

AGENCY: Department of Energy.

ACTION: Notice of meeting postponement.

SUMMARY: On November 14, 2003, the Department of Energy published a notice of open meeting of the Federal Energy Management Advisory Committee 68 FR 64615. Today's notice is announcing the postponement of the meeting scheduled for December 3, 2003. The next meeting will be scheduled for early next year.

Issued in Washington, DC, on November 19, 2003.
Rachel Samuel,
Deputy Committee Management Officer.

[FR Doc. 03-29404 Filed 11-24-03; 8:45 am]

BILLING CODE 6450-01-P